DEPARTMENT OF HOMELAND SECURITY

Coast Guard

33 CFR Part 165

[Docket Number USCG-2025-0319]

RIN 1625-AA87

Security Zone; Intracoastal Waterway, Palm Beach, FL

AGENCY: Coast Guard, DHS.

ACTION: Final rule.

SUMMARY: The Coast Guard is changing the enforcement of an existing security zone that encompasses certain waters of the Atlantic Ocean near the Mar-a-Lago Club and the Southern Boulevard Bridge in Palm Beach, FL. When the “East Zone” is activated all persons and vessels will be prohibited from entering, transiting, anchoring in, or remaining within the security zone unless authorized by the Captain of the Port Miami (COTP) or a designated representative.

DATES: This rule is effective September 5, 2025.

ADDRESSES: To view go to https://www.regulations.gov and search for USCG-2025-0319.

FOR FURTHER INFORMATION CONTACT: If you have questions about this rule, call or email Lieutenant Guerschom Etienne, Waterways Management Division, U.S. Coast Guard; telephone 786-295-9051, email SectorMiamiWaterways@uscg.mil.

SUPPLEMENTARY INFORMATION:

I. Table of Abbreviations

CFR Code of Federal Regulations

DHS Department of Homeland Security

FR Federal Register

NPRM Notice of proposed rulemaking

§ Section

U.S.C. United States Code

II. Background Information, Regulatory History, and Authority

On April 19, 2018, the Coast Guard established a security zone around Mar-a-Lago Club in 33 CFR 165.785 to ensure the safety of the president, official party, and any other persons under the protection of the secret service at his residence. The security zone in § 165.785 consists of 3 zones with varying levels of security within the Intracoastal Waterway and Atlantic Ocean adjacent to this location. While this security zone has been in effect since 2018, increased vessel traffic in the area has created a need for heightened restrictions in the East Zone when the President of the United States, members of the First Family, or other persons under the protection of the Secret Service are present or expected to be present.

In response, on July 10, 2025, the Coast Guard published a notice of proposed rulemaking (NPRM) titled Security Zone; Intracoastal Waterway, Palm Beach, FL (90 FR 30603). There we stated why we issued the NPRM and invited comments on our proposed regulatory action related to this security zone. During the comment period that ended August 11, 2025, with 1 comments.

The Coast Guard is issuing this rule under the authority in 46 U.S.C. 70051 and 70124, which is needed to protect to ensure sufficient protection of the presidential party when they are in the vicinity of these waterways.

Under 5 U.S.C. 553(d)(3), the Coast Guard finds that good cause exists for making this rule effective less than 30 days after publication in the Federal Register. Delaying the effective date of this rule would be impracticable because immediate action is needed to enhance the security protections of presidential and VIP personnel present in the vicinity of this waterway.

III. Discussion of Comments, Changes, and the Rule

As noted above, we received 1 positive comments on our NPRM published July 10, 2025. This comment supported the rule as it is written; therefore, there are no changes in the regulatory text of this rule from the proposed rule in the NPRM.

This rule changes the enforcement of the “East Zone” security zone within 33 CFR 165.785, which is located on the waters of the Atlantic Ocean near the Mar-a-Lago Club and the Southern Boulevard Bridge in Palm Beach, FL. When the “East Zone” is activated all persons and vessels are prohibited from entering, transiting, anchoring in, or remaining within the security zone unless authorized by the COTP Miami or a designated representative.

IV. Regulatory Analyses

We developed this rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities for the following reasons. Vessel traffic will be able to safely transit around the security zones which will impact a limited restriction on the waterway while the President or members of the official party have been present in the Mar-a-Lago club. Moreover, the Coast Guard will rely on the methods described in 33 CFR 165.7 to notify the public prior to activation of any of the security zones described in paragraph (a) of this section. Coast Guard patrol assets will also be on-scene with flashing energized blue lights when the east security zone is in effect.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements in that Order. Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is security zone. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, security measures, waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Revise § 165.785 to read as follows:

§ 165.785 Security Zone; Presidential Security Zone, Palm Beach, FL.

(a) Location. The following area is a security zone:

(1) Center zone. All waters of Lake Worth Lagoon from surface to bottom within the following points: Beginning at Point 1 in position 26°41′21″ N, 80°02′39″ W; thence east to Point 2 in position 26°41′21″ N, 80°02′13″ W; thence south following the shoreline to Point 3 in position 26°39′58″ N, 80°02′20″ W; thence west to Point 4 in position 26°39′58″ N, 80°02′38″ W, thence back to origin at Point 1.

(2) West zone. All waters of Lake Worth Lagoon from surface to bottom within the following points: Beginning at Point 1 in position 26°41′21″ N, 80°02′39″ W; thence west to Point 2 in position 26°41′21″ N, 80°03′00″ W; thence south following the shoreline to Point 3 in position 26°39′58″ N, 80°02′55″ W; thence east to Point 4 in position 26°39′58″ N, 80°02′38″ W, thence back to origin at Point 1.

(3) East zone. All waters of the Atlantic Ocean from surface to bottom within the following points: Beginning at Point 1 in position 26°41′21″ N, 80°02′01″ W; thence south following the shoreline to Point 2 in position 26°39′57″ N, 80°20′9″W; thence east to Point 3 in position 26°39′57″ N, 80°01′36″ W; thence north to Point 4 in position 26°41′22″ N, 80°01′29″ W, thence back to origin at Point 1.

(b) Definitions. As used in this section, designated representative means a Coast Guard Patrol Commander, including a Coast Guard coxswain, petty officer, or other officer operating a Coast Guard vessel and a Federal, State, and local officer designated by or assisting the Captain of the Port Sector Miami (COTP) in the enforcement of the security zone.

(c) Regulations. (1) Center zone. All persons and vessels are prohibited from entering, transiting, anchoring in, or remaining within the security zone unless authorized by the COTP Miami or a designated representative.

(2) West zone. All persons and vessels are required to transit the security zone escorted by an on-scene designated representative at a steady speed and may not slow down or stop except in the case of unforeseen mechanical failure or other emergencies. Any persons or vessels forced to slow or stop in the zone shall immediately notify the COTP Miami via VHF channel 16.

(3) East zone. All persons and vessels are prohibited from entering, transiting, anchoring in, or remaining within the security zone unless authorized by the COTP Miami or a designated representative.

(4) Contacting Captain of the Port. To seek permission to enter, contact the COTP or the COTP's representative by telephone at (305)

535-4472 or may contact a designated representative via VHF radio on channel 16. Those in the security zone must comply with all lawful orders or directions given to them by the COTP or the COTP's designated representative.

(d) Enforcement period. (1) This section will be enforced when the President of the United States, members of the First Family, or other persons under the protection of the Secret Service are present or expected to be present at the Mar-a-Lago Club in Palm Beach, Florida. The Coast Guard will rely on the methods described in 33 CFR 165.7 to notify the public prior to activation of any of the security zones described in paragraph (a) of this section. Coast Guard patrol assets will also be on-scene with flashing energized blue lights when the center, west, or east security zone is in effect.

(2) [Reserved]

Frank J. Florio,
Captain, U.S. Coast Guard, Captain of the Port, Sector Miami.

[FR Doc. 2025-17092 Filed 9-4-25; 8:45 am]

BILLING CODE 9110-04-P